FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Lennex Express, Inc., 1225 W. 190th Street, Suite 325, Gardena, CA 90248. Officer: Seri M. Ahn, President, (Qualifying Individual).

Daniel Cole Logistics LLC, 313 F Trindale Road, Suite 201, Archdale, NC 27263. Officers: Harold Wayne Gilmore, Member, (Qualifying Individual), Christopher Daniel Gilmore, Member.

MT Global Freight Solutions Inc., 701 Hanover Drive, Suite 450, Grapevine, TX 76051. Officers: Michael Keng Fai Tong, Secretary, (Qualifying Individual), Sandy Yeung, President.

Transtar International Freight PTY Ltd, Suite 1, 14 Woodruff Street, Port Melbourne Victoria 3207 Australia. Officers: Hank Meyer, Managing Director, (Qualifying Individual), Terry Smith, Director.

Capricorn Logistics Inc., 491 Supreme Drive, Bensenville, IL 60106. Officers: Timothy Wojno, Vice President, (Qualifying Individual), Sheetal Sandanand Shetty, President.

Non-Vessel-Operating Common Carrier and Ocean Freight Forwarder Transportation Intermediary Applicants

SGL USA, Inc., 2153 NW., 79th Avenue, Miami, FL 33122. Officer: Jaime W. Pozo, President, (Qualifying Individual).

Pacific Container Line, Inc., 5710 Crescent Park East, #228, Playa Vista, CA 90094. Officer: Henry Chang, President, (Qualifying Individual).

Logistics International Forwarding Inc., 8305 NW 27th Street, Suite 111, Doral, FL 33122. Officer: Orestes Wrves, President, (Qualifying Individual).

International Cargo Express (USA) Inc., dba Ice Consolidation Services dba Ice Lines, Suite 225, Cargo Building 9, Jfkia, Jamaica, NY 11430. Officers: Robert C.K. Wong, Vice President, (Qualifying Individual), Harmon Lo Bing Chung, President.

Ocean Freight Forwarder—Ocean Transportation Intermediary Applicants

Uniglobe Inc., 12911 Simms Ave., Hawthorne, CA 90250. Officers: Steven Bi, Vice President, (Qualifying Individual), Jane Shen, President.

Bluemove International Relocation, Inc., 3417 Tanterra Circle, Brookerville, MD 20833. Officer: Mark Spitzer, President, (Qualifying Individual).

Brower & Company, 6695 Butte Avenue, Sutter, CA 95982, Anthony W. Brower, Sole Proprietor.

Trade Docs International L.L.C., dba Sea King Forwarding, 96 Mountainview Avenue, Staten Island, NY 10314-4037. Officer: Kevin M. Carroll, President, (Qualifying Individual).

Dated: September 22, 2006.
Bryant L. VanBrakle,
Secretary.

[FR Doc. E6-15878 Filed 9-26-06; 8:45 am]

BILLING CODE 6730-01-P